COMMITTEE FOR PURCHASE FROM PEOPLE WHO ARE BLIND OR SEVERELY DISABLED

Procurement List; Additions; Clarification

AGENCY: Committee for Purchase From People Who Are Blind or Severely Disabled.

ACTION: Notice.

SUMMARY: The Committee for Purchase From People Who Are Blind or Severely Disabled (Committee) is providing supplementary information to its Notice in the Federal Register of October 26, 2012.

FOR FURTHER INFORMATION CONTACT: Barry S. Lineback, Director, Business Operations, 1421 Jefferson Davis Highway, Jefferson Plaza II, Suite 10800, Arlington, VA, Telephone: (703) 603-2118; FAX 703-603-0655 or email CMTEFedReg@abilityone.gov

SUPPLEMENTARY INFORMATION: The Committee's Notice in the Federal Register of Friday, October 26, 2012 (77 FR 65365-65366), concerning additions to the Procurement List, specified “Eyewear” with coverage for 100% of the requirements for Veterans Integrated Service Networks (VISNs) 1, 3, 4, 5, 6, 7, and 8, as aggregated by Service Area Office (SAO) East, Veterans Health Administration, Department of Veterans Affairs, Pittsburgh, PA, with an effective date of November 26, 2012. This Notice is to clarify that the Committee's decision to add the referenced eyewear requirement to the Procurement List does not affect current contracts or option years exercised under those contracts. Nor does the Committee's decision preclude the Department of Veterans Affairs from implementing its Veterans First Program in awarding prime contracts for optical products and services in accordance with their published procedures.

Further, the Committee is temporarily suspending the November 26, 2012 effective date for the following locations: VISNs 1, 3, 4, 5, 6 and those portions of VISN 8 that have existing commercial contracts as of November 26, 2012. Concurrently, pursuant to 41 CFR 51-2.4, the Committee will reconsider the decision in order to determine whether it had all appropriate information for consideration when the Committee extended to SAO East its decision that the products were suitable for procurement by the Government.

Interested parties may submit comments pertaining to the eyewear addition for the Committee's consideration no later than 5 p.m. on January 28, 2013. Comments received after this date will not be considered. Comments should be submitted to Barry S. Lineback at the address above.

Dated: December 6, 2012.
Barry S. Lineback,
Director, Business Operations.

[FR Doc. 2012-29873 Filed 12-10-12; 8:45 am]

BILLING CODE 6353-01-P